DEPARTMENT OF ENERGY

Federal Energy Regulatory Commission

[Docket No. EC02-119-000, et al.]

Manchief Power Company, L.L.C., et al.; Electric Rate and Corporate Regulation Filings

October 1, 2002.

The following filings have been made with the Commission. The filings are listed in ascending order within each docket classification.

1. Manchief Power Company, L.L.C., Manchief Holding Company, Mesquite Colorado Holdco, L.L.C., Mesquite Investors, L.L.C., Fulton Cogeneration Associates, L.P.

[Docket No. EC02-119-000]

Take notice that on September 26, 2002, Manchief Power Company, L.L.C. (Manchief Power), Manchief Holding Company (Manchief Holding), Mesquite Colorado Holdco, L.L.C. (Mesquite Colorado) Mesquite Investors, L.L.C. (Mesquite Investors) and Fulton Cogeneration Associates, L.P. (Fulton) (jointly, Applicants) filed with the Federal Energy Regulatory Commission an application pursuant to Section 203 of the Federal Power Act for authorization to effectuate a transfer of the member interests in Manchief Power (which constitutes and indirect change in control over Manchief Power's jurisdictional facilities) from Mesquite Colorado to Manchief Holding. Applicants also requested expedited consideration of the Application and privileged treatment for certain exhibits pursuant to 18 CFR 33.9 and 388.112. Fulton and Manchief are also requesting Section 203 approval, to the extent applicable, to separate their shared market-based rate tariff.

Comment Date: October 17, 2002.

2. Entergy Services, Inc.

[Docket Nos. ER01-1951-003 and EL01-112-001]

Take notice that on September 23, 2002, Entergy Services, Inc., on behalf of Entergy Arkansas, Inc., Entergy Gulf States, Inc., Entergy Louisiana, Inc., Entergy Mississippi, Inc., and Entergy New Orleans, Inc., (collectively, the Entergy Operating Companies) tendered for filing a compliance refund report in accordance with the Commission's letter order in Docket Nos. ER01-1951-000, ER01-1951-001, ER01-1951-002, and EL01-112-000.

Comment Date: October 23, 2002.

3. Duke Energy Oakland LLC, Duke Energy South Bay LLC

[Docket Nos. ER02-10-001 and ER02-239-003]

Take notice that on September 26, 2002, Duke Energy South Bay, LLC (DESB) tendered for filing certain revisions to Schedules A and B of its RMR Agreement (RMR Agreement) with the California Independent System Operator (CAISO). The revisions are proposed in light of an Offer of Settlement submitted in the above-referenced dockets.

DESB requests an effective date of January 1, 2002 for these revisions. Copies of the filing have been served upon each person designated on the official service list compiled by the Secretary in these proceedings.

Comment Date: October 17, 2002.

4. Commonwealth Edison Company

[Docket No. ER02-2241-001]

Take notice that on September 27, 2002, Commonwealth Edison Company (ComEd) submitted for filing an unexecuted Agreement for Dynamic Scheduling of Transmission Service between ComEd and Wisconsin Electric Power Company (Wisconsin Electric) under ComEd's Open Access Transmission Tariff (OATT) in compliance with Commonwealth Edison Co., 100 FERC ¶ 61,231 (2002).

ComEd states that a copy of this filing has been served on Wisconsin Electric and the Illinois Commerce Commission.

Comment Date: October 18, 2002.

5. California Independent System Operator Corporation

[Docket No. ER02-2321-003]

Take notice that on September 27, 2002, the California Independent System Operator Corporation (ISO) submitted a filing in compliance with the directives contained in the Commission's August 30, 2002 order in the captioned docket concerning Amendment No. 46 to the ISO Tariff, 100 FERC ¶ 61,234.

The ISO has served this filing upon the Public Utilities Commission of the State of California, the California Energy Commission, the California Electricity Oversight Board, all parties with effective Scheduling Coordinator Service Agreements under the ISO Tariff, and all parties on the official service list for the captioned docket. In addition, the ISO has posted a copy of the filing on its Home Page.

Comment Date: October 18, 2002.

6. Southern California Edison Company

[Docket Nos. ER02-2604-000 and EC02-118-000]

Take notice that on September 24, 2002, Southern California Edison Company (SCE) tendered for filing with the Federal Energy Regulatory Commission (Commission), pursuant to Section 35.13 of the Commission's regulations and Section 205 of the Federal Power Act, the High Desert Power Project Tie-Line Facilities Rental Agreement (Tie-Line Agreement), dated September 10, 2002, between SCE and High Desert Power Trust, LLC (HDPT). The Tie-Line Agreement specifies, among other things, that SCE shall engineer, design, procure, construct, install, own, operate, and maintain a 230 kV transmission line and related facilities to connect the switchyard at the High Desert Power Project to interconnection facilities at SCE's Victor Substation (Tie-Line). Following the in-service date of the Tie-Line, SCE will lease the Tie-Line to HDPT.

SCE requests that the Tie-Line Agreement be accepted for filing effective September 25, 2002. In addition, SCE also filed with the Commission an application pursuant to Section 203 of the Federal Power Act requesting any authorizations deemed necessary by the Commission for a disposition of jurisdictional facilities, namely a lease of the Tie-Line to HDPT, pursuant to the terms and conditions of the Tie Line Agreement. SCE respectfully requests that this application be granted and authorization be obtained by September 25, 2002.

Copies of this filing were served upon the Public Utilities Commission of the State of California, HDPT and HDPP.

Comment Date: October 15, 2002.

7. Sierra Pacific Power Company, Nevada Power Company

[Docket No. ER02-2609-000]

Take notice that on September 27, 2002, Sierra Pacific Power Company (Sierra) and Nevada Power Company (Nevada Power) tendered for filing pursuant to Section 205 of the Federal Power a revised Joint Open Access Transmission Tariff. This filing is intended to implement retail access in Nevada and to make certain other changes to reflect the current status of operations. Sierra and Nevada Power request that the revised tariff be made effective on November 1, 2002, which is the date that retail access commences in the state of Nevada.

Comment Date: October 18, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-25540 Filed 10-7-02; 8:45 am]

BILLING CODE 6717-01-P